DEPARTMENT OF TRANSPORTATION

Federal Aviation Administration

[Docket No. FAA-2025-0636]

Agency Information Collection Activities: Requests for Comments; Clearance of a New Approval of Information Collection: Application for Special Purpose Pilot Authorization

AGENCY: Federal Aviation Administration (FAA), DOT.

ACTION: Notice and request for comments.

SUMMARY: In accordance with the Paperwork Reduction Act of 1995, FAA invites public comments about our intention to request the Office of Management and Budget (OMB) approval for a new information collection. The collection involves application for a Special Purpose Pilot Authorization (SPPA) submitted to the FAA for the purpose of performing pilot duties on a civil aircraft of the United States and leased by a non-U.S. citizen. The information to be collected will be used to determine applicant eligibility for the issuance of a SPPA.

DATES: Written comments should be submitted by August 15, 2025.

ADDRESSES: Please send written comments:

By Electronic Docket: www.regulations.gov (Enter docket number into search field).

By email at: danuta.pronczuk@faa.gov. In the email subject enter: comments on Docket No. FAA-2025-0636.

FOR FURTHER INFORMATION CONTACT: Danuta Pronczuk by email at: danuta.pronczuk@faa.gov; phone: 202-267-0923.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Special Purpose Pilot Authorization, § 61.77 Application.

Form Numbers: There are no FAA forms associated with this collection. Information needed by the FAA is publicly viewable in the Dynamic Regulatory System (DRS). Once in DRS go to: FAA Order 8900.1 Volume 12, Chapter 3, section 4.

Type of Review: A new information collection.

Background: The FAA recognizes “authorizations” as equivalent to certificates issued by the Administrator under 49 U.S.C. 44711(a)(2), formerly the Federal Aviation Act of 1958, as amended. On August 4, 1997, the FAA adopted a final rule which replaced the special purpose pilot certificate for foreign pilots of U.S.-registered aircraft with a special purpose pilot authorization (SPPA). The SPPA under 14 CFR 61.77 provides for validation of a foreign pilot license. The rule requires pilots who hold a SPPA issued in accordance with § 61.77 to have that authorization in their possession in the aircraft when exercising the privileges of that authorization. The information collection is necessary to determine applicant eligibility for the issuance of SPPA under 14 CFR 61.77.

Respondents: Approximately 2,259 foreign applicants.

Frequency: Information is collected on occasion.

Estimated Average Burden per Response: 1 Hour.

Estimated Total Annual Burden: 2,259 hours.

Issued in Washington, DC, on June 10, 2025.
Katherine Haley,
Acting Manager, International Program Division.

[FR Doc. 2025-10910 Filed 6-13-25; 8:45 am]

BILLING CODE 4910-13-P